DEPARTMENT OF HOMELAND SECURITY

Transportation Security Administration

Extension of Agency Information Collection Activity Under OMB Review: Department of Homeland Security Traveler Redress Inquiry Program (DHS TRIP)

AGENCY: Transportation Security Administration, DHS.

ACTION: 30-day Notice.

SUMMARY: This notice announces that the Transportation Security Administration (TSA) has forwarded the Information Collection Request (ICR), Office of Management and Budget (OMB) control number 1652-0044, to OMB for review and approval of an extension of the currently approved collection under the Paperwork Reduction Act (PRA). The collection involves the submission of identifying and travel experience information by individuals requesting redress through the Department of Homeland Security (DHS) Traveler Redress Inquiry Program (DHS TRIP). The collection also involves a voluntary customer satisfaction survey to identify areas for program improvement. The ICR describes the nature of the information collection and its expected burden. TSA published a Federal Register notice, with a 60-day comment period soliciting comments, of the following collection of information on May 19, 2010 (75 FR 28051).

DATES: Send your comments by September 27, 2010. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Joanna Johnson, TSA PRA Officer, Office of Information Technology (OIT), TSA-11, Transportation Security Administration, 601 South 12th Street, Arlington, VA 20598-6011; telephone (571) 227-3651; e-mail TSAPRA@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Department of Homeland Security Traveler Redress Inquiry Program.

Type of Request: Revision of a currently approved collection.

OMB Control Number: 1652-0044.

Form(s): Traveler Inquiry Form.

Affected Public: Traveling Public.

Abstract: The DHS Traveler Redress Inquiry Program (DHS TRIP) serves as a centralized intake office for traveler redress requests. Individuals may seek redress if they believe that they have been (1) denied or delayed boarding; (2) denied or delayed entry into or departure from the United States at a port of entry; (3) indentified for additional (secondary) screening at our Nation's transportation hubs, including airports, seaports, train stations, and land borders; and (4) otherwise been subjected to violations of their civil rights or privacy rights while boarding, entering, or being screened in connection with travel. To request redress, individuals complete the Traveler Inquiry Form (TIF) by providing identifying information as well as details of the travel experience. After receipt, DHS TRIP passes the information to the relevant DHS component(s) and/or the Department of State to process the request as appropriate (for example, DHS TRIP passes the TIF to TSA to initiate the Watch List Clearance Procedure). DHS is modifying the TIF by adding an optional question that asks applicants to categorize the frequencies of their travel.

DHS TRIP will use this collection to assist in prioritizing the processing of cases to support the redress of the most frequent travelers. DHS will use the information collected through the DHS TRIP to determine if errors exist in the redress requestor's record. This collection also serves to help DHS distinguish the redress requestor from an actual individual on a watch list used by DHS, while streamlining and expediting future check-in or border crossing experiences.

DHS TRIP will also conduct a voluntary customer satisfaction survey in accordance with the DHS Office of the Inspector General, Report on Effectiveness of the Department of Homeland Security Traveler Redress Inquiry Program. Recommendation number 24 of the report called upon DHS TRIP to “collect and report on redress-seeker impressions of the TRIP Web site, different aspects of the redress experience, and their overall satisfaction with the program, with the aim of using this information to identify areas for improvement.” DHS estimates that completing customer satisfaction survey will take approximately 10 minutes per respondent.

Number of Respondents: 62,000.

Estimated Annual Burden Hours: An estimated 72,540 hours annually.

Issued in Arlington, Virginia, on March 23, 2010.
Joanna Johnson,
TSA Paperwork Reduction Act Officer, Office of Information Technology.

[FR Doc. 2010-21310 Filed 8-25-10; 8:45 am]

BILLING CODE 9110-05-P